FEDERAL MARITIME COMMISSION

[Docket No. 21-17]

Order of Investigation and Hearing: Ocean Network Express PTE. LTD. and Ocean Network Express (North America) Inc.; Possible Violations

AGENCY: Federal Maritime Commission.

ACTION: Notice of Order of Investigation and Hearing.

DATES: The Order of Investigation and Hearing was served December 30, 2021.

SUPPLEMENTARY INFORMATION: On December 30, 2021, the Federal Maritime Commission instituted an Order of Investigation and Hearing entitled Ocean Network Express PTD. LTD. and Ocean Network Express (North America), Inc. Possible Violations of 46 U.S.C. 41102(c). Acting pursuant to 46 U.S.C. 41302(a) and 41304, and 46 CFR 502.63, that investigation is instituted to determine:

Whether Ocean Network Express PTD. LTD. and Ocean Network Express (North America), Inc. are violating or have violated section 41102(c) of the Shipping Act by failing to establish, observe, and enforce just and reasonable regulations and practices relating to its practice of demanding payment of charges from Greatway Logistics Group, LLC (Greatway) despite Greatway not being liable for such charges.

The Order may be viewed in its entirety at http://www.fmc.gov/21-17.

Authority: 46 U.S.C. 41302.

William Cody,
Secretary.

[FR Doc. 2022-00052 Filed 1-6-22; 8:45 am]

BILLING CODE 6730-02-P